DEPARTMENT OF EDUCATION

Applications for New Awards; Supporting Effective Educator Development Program

AGENCY: Office of Elementary and Secondary Education, Department of Education.

ACTION: Notice.

SUMMARY: The Department of Education (Department) is issuing a notice inviting applications for fiscal year (FY) 2025 for the Supporting Effective Educator Development (SEED) program.

DATES:

Applications Available: January 17, 2025.

Deadline for Notice of Intent to Apply: Applicants are strongly encouraged, but not required, to submit a notice of intent to apply by February 18, 2025.

Deadline for Transmittal of Applications: March 18, 2025.

Deadline for Intergovernmental Review: May 19, 2025.

Pre-Application Webinars: The Office of Elementary and Secondary Education intends to conduct informational webinars designed to provide technical assistance to interested applicants for grants under the Academies Program. These informational webinars occur approximately 2 weeks after the publication of this notice in the Federal Register at https://www.ed.gov/grants-and-programs/teacher-prep/supporting-effective-educator-development-grant-program#Applicant-Info.

ADDRESSES: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs.

FOR FURTHER INFORMATION CONTACT: Orman Feres, U.S. Department of Education, 400 Maryland Avenue SW, Washington, DC 20222-5960. Email: Orman.Feres@ed.gov or SEED@ed.gov. Phone: (202) 219-1764.

If you use a telecommunications device for the deaf (TDD) or a text telephone (TTY), call the Federal Relay Service (FRS), toll free, at 1-800-877-8339.

SUPPLEMENTARY INFORMATION:

Full Text of Announcement

I. Funding Opportunity Description

Purpose of Program: The SEED program, authorized under section 2242 of the Elementary and Secondary Education Act of 1965, as amended (ESEA) (20 U.S.C. 6672), provides funding to increase the number of highly effective educators by supporting the implementation of evidence-based practices that prepare, develop, or enhance the skills of educators. These grants will allow eligible entities to develop, expand, and evaluate practices that can serve as models to be sustained and disseminated.

Assistance Listing Number: 84.423A.

OMB Control Number: 1894-0006.

Background: The SEED program is designed to foster the use of rigorous evidence-based practices in selecting and implementing strategies and interventions that support educators' development across the continuum of their careers (e.g., in preparation, recruitment, professional learning, and leadership development). The Biden-Harris Administration has made a commitment to supporting targeted efforts that will provide comprehensive, high-quality pathways, such as residency, Grow Your Own, and registered apprenticeship programs, for educator preparation and development programs focused on building a more diverse educator pipeline, and increasing the retention of a diverse educator workforce. For example, research shows that teachers who have access to pathways such as residencies into the profession are more likely to stay in the profession and have effectiveness compared to teachers who received less comprehensive preparation.¹

¹ Silva, T., McKie, A., and Gleason, P. (2015). New Findings on the Retention of Novice Teachers from Teaching Residency Programs. Washington, DC: National Center for Education Evaluation and Regional Assistance, Institute of Education Sciences. https://ies.ed.gov/ncee/pubs/20154015/pdf/20154015.pdf.

This competition includes several areas of particular interest to the Department. Studies suggest that all students benefit from having teachers of color. Students of color being exposed to teachers of their race or ethnicity has a positive effect on their academic and social achievement, and increases their attendance, high school graduation rates, and college attendance. In addition to student academic performance, a diverse educator workforce can lead to improved student behavior and classroom environments for all students.2 3 However, only around one in five teachers ⁴ are people of color, compared to more than half of K-12 public school students.⁵ The Department recognizes that a diverse educator workforce plays a critical role in ensuring equity in our schools, while also supporting intercultural experiences and competencies in our education system that will benefit and improve the opportunities for all students.

² Cherng, H.-Y. S., & Davis, L.A. (2019). Multicultural Matters: An Investigation of Key Assumptions of Multicultural Education Reform in Teacher Education. Journal of Teacher Education, 70(3), 219236. https://doi.org/10.1177/0022487117742884.

⁴ www.bls.gov/cps/cpsaat11.htm.

⁵ nces.ed.gov/programs/coe/indicator_cge.asp.

Access to educational resources and opportunities such as rigorous coursework and dual enrollment can have positive impacts on underserved students. For example, a December 2020 brief from the National Center for Education Statistics ⁶ revealed that there is a correlation between the percentage of students who qualify for free or reduced-price lunch in a school and the likelihood that those students will have access to dual enrollment opportunities. The study showed that schools with a higher percentage of students who were approved for free or reduced-price lunch were less likely to offer dual enrollment than schools with a lower rate of participation in free or reduced-price lunch programs. Such examples of inadequate or inequitable access to educational resources can lead to the students from higher poverty schools having fewer opportunities for educational enrichment.

⁶ nces.ed.gov/pubsearch/pubsinfo.asp?pubid=2020125.

Additionally, the Department recognizes the importance of ensuring that children and youth learn, grow, and achieve in safe and supportive environments, and in the care of responsive adults they trust.⁷ In addition to allowing applicants to propose a project designed to promote educational equity and adequacy in resources and opportunity, applicants are encouraged to prepare teachers to create inclusive, supportive, equitable, unbiased, and identity-safe learning environments for their students that meet their social emotional and academic needs.

⁷ Reyes, M.R., Brackett, M.A., Rivers, SE, White, M., & Salovey, P. (2012). Classroom Emotional Climate, Student Engagement, and Academic Achievement. Journal of Educational Psychology, 104(3), 700.

Consistent with the Department's Raise the Bar: Lead the World call to action,⁸ a diverse educator workforce plays an essential role in ensuring equity in our education system, and strengthening pathways into the profession and supporting teacher professional development are critical elements. In addition to implementing strong induction and mentoring programs and improving workplace culture by creating inclusive environments and reducing job-related stress, studies show that building and maintaining strong relationships with organizations that prepare teachers of color, including Historically Black Colleges and Universities (HBCUs), Tribally Controlled Colleges and Universities, and Minority-Serving Institutions, is another high-yield strategy to recruit and retain diverse educators.⁹ HBCUs, for example, have been a strong pipeline for educators and leaders of color. Although they make up only 3 percent of the Nation's colleges and universities, HBCUs prepare nearly 50 percent of the Nation's African American teachers.¹⁰ HBCUs are indispensable to producing and advancing educational opportunities for students of color, first-generation students, and other underrepresented students who are interested in the teaching profession.¹¹ In many urban and rural communities, HBCUs produce high numbers of teachers who work in the local school divisions.¹² Leveraging the HBCU network to recruit effective teachers of color is a high-impact strategy to diversify the educator pipeline and, in turn, advance student achievement.

⁸ www2.ed.gov/about/inits/ed/raise-the-bar/executive-summary.pdf.

⁹ See id.

¹⁰ See id.

¹¹ Fenwick, L. (2016). Teacher preparation innovation and historically black colleges and universities (HBCUs). Teaching Works working papers. University of Michigan. https://www.teachingworks.org/images/files/TeachingWorks_Fenwick.pdf.

¹² See id.

Registered apprenticeships are another pathway into the profession that have the potential to be an effective, high-quality. The “earn and learn” apprenticeship model allows candidates to earn their teaching credential while earning pay by combining structured, paid, on-the-job learning experiences with a mentor teacher, with coursework and other components of an evidence-based program.¹³ Registered apprenticeship programs for K-12 teachers can be used to establish, scale, and build on existing high-quality pathways into teaching that emphasize classroom-based experience, such as Grow Your Own and teacher residency programs. By reducing the cost of earning a license and offering flexible scheduling, registered apprenticeship programs are designed to open the doors to the profession to those who may otherwise face barriers, including people of color, people from low-income backgrounds, and individuals such as paraprofessionals who may already have decades of experience in the classroom but previously could not afford to become a teacher. Once registered with the U.S. Department of Labor or their State apprenticeship agency (requirements vary by State), these programs can access Federal workforce funding, such as Workforce Innovation and Opportunity Act and Carl D. Perkins Career and Technical Education Act (Perkins V) funding, in addition to other Federal, State, and local education and workforce funds, bringing additional resources to help address educator shortages.

¹³ https://www.aprenticeship.gov/apprenticeship-industries/education.

In August of 2022, Secretary Cardona and then-Labor Secretary Marty Walsh issued a joint Dear Colleague Letter ¹⁴ calling on all States to establish registered apprenticeship programs for K-12 teachers to help eliminate educator shortages and outlining how States and other interested parties can learn more about this approach. Applicants are encouraged to explore resources on registered apprenticeship programs for teachers on the Department's Raise the Bar web page on eliminating educator shortages; ¹⁵ at the Department of Labor's apprenticeship website focused on the education industry; ¹⁶ through the Department of Labor funded Educator Registered Apprenticeship Intermediary; ¹⁷ and through the resources of the Pathways Alliance, including National Guidelines for Apprenticeship Standards for K-12 Teacher Apprenticeships, approved by the Department of Labor and previously highlighted by the Department, to support high-quality programs.¹⁸

¹⁴ https://www.apprenticeship.gov/sites/default/files/22-0119-joint-dcl-signed-ed.pdf.

¹⁵ https://www.ed.gov/raisethebar/educators.

¹⁶ https://www.apprenticeship.gov/apprenticeship-industries/education.

¹⁷ https://www.educatorapprenticeships.com/.

¹⁸ https://www.thepathwaysalliance.org/reports; https://www.ed.gov/news/press-releases/education-labor-departments-announce-new-efforts-to-advance-teacher-preparation-programs-and-expand-registered-apprenticeships-educators.

Finally, the Department seeks to strengthen professional development for early elementary educators and school leaders. Given the opportunity and achievement gaps for students from low-income backgrounds that are present as they enter kindergarten and widen during the kindergarten year, and the cumulative gap that persists into and through the early grades,¹⁹ the early elementary grades are foundational for improving 3rd grade outcomes, 4th grade National Assessment of Educational Progress scores, and laying the path for early and later school success.²⁰ Moreover, gains from attending high-quality preschool are not currently being sustained for these same students,²¹ reinforcing the need for pre-service and ongoing professional learning and development opportunities for both early grade educators and school leaders.²² Young learners benefit from having educators who implement early grade instructional supports that are inclusive and developmentally informed, culturally and linguistically responsive, and consistent with an understanding of the science of learning and development and who work with parents and families as partners.²³ Family engagement is associated with higher early literacy and math skills and leads to better student outcomes.²⁴ Yet, teachers report needing more professional development on family engagement.²⁵ Research has also shown that instructional alignment across K-3 mitigates the challenges many students face as they move through the early grades.²⁶ Training and supports for teachers and principals should elevate both pre-service and ongoing professional learning opportunities for collaboration across K-3 and effective partnerships with parents and families to meet rigorous 3rd grade reading and math standards.

¹⁹ THE EARLY ACHIEVEMENT AND DEVELOPMENT GAP (hhs.gov), THE PERSISTENCE OF PRESCHOOL EFFECTS FROM EARLY CHILDHOOD THROUGH ADOLESCENCE—PMC (nih.gov).

²⁰ AECF-Early_Warning_Full_Report-2010.pdf, Closing Achievement Gaps Through Preschool-To-Third-Grade Programs—PMC (nih.gov).

²¹ THE CHALLENGE OF SUSTAINING PRESCHOOL IMPACTS Introducing ExCEL P-3, a Study from the Expanding Children's Early Learning Network.

²² P-3TeacherEffectiveness2.pdf (americanprogress.org).

²³ P-3TeacherEffectiveness2.pdf (americanprogress.org).

²⁴ Sheridan, S.M., Knoche, L.L., Kupzyk, K.A., Edwards, C.P., & Marvin, C.A. (2011). A randomized trial examining the effects of parent engagement on early language and literacy: The Getting Ready intervention. Journal of school psychology, 49(3), 361-383. https://doi.org/10.1016/j.jsp.2011.03.001 13. Sheldon, S.B., & Epstein, J.L. (2005). Involvement counts: Family and community partnerships and mathematics achievement. The Journal of Educational Research, 98(4), 196-207. https://doi.org/10.3200/JOER.98.4.196-207.

²⁵ Engaging First: Supporting Young Learners Through Family Engagement. Engaging-First-V8.pdf (edtrust.org).

²⁶ Results in Brief: Preschool Through Third Grade Alignment and Differentiated Instruction: A Literature Review—August 1, 2016 (PDF).

To advance these critical areas of focus, this competition includes two absolute priorities. Absolute Priority 1, Supporting Effective Teachers and Absolute Priority 2, Supporting Effective Principals or Other School Leaders are from section 2242 of the ESEA (20 U.S.C. 6672) and 34 CFR 75.226. This competition also includes three competitive preference priorities. Competitive Preference Priority 1 focuses on increasing educator diversity in classrooms across the Nation. Competitive Preference Priority 2 encourages applicants to develop programs that promote equity in student access to educational resources and opportunities and that prepare teachers to create inclusive, supportive, equitable, unbiased, and identity-safe learning environments for students. Competitive Preference Priority 3 addresses the critical need to support a diverse educator workforce.

In addition, this competition includes two invitational priorities. Invitational Priority 1 promotes registered apprenticeship programs for K-12 teachers as a method to build on existing high-quality educator preparation pathways into teaching while reducing the cost of earning a teaching license. Invitational Priority 2 encourages applicants to explore professional learning supports for early elementary teachers and school leaders.

Priorities: This notice contains two absolute priorities and three competitive preference priorities. In accordance with 34 CFR 75.105(b)(2)(iv), Absolute Priority 1, which requires moderate evidence, and Absolute Priority 2, which requires promising evidence, are from section 2242 of the ESEA (20 U.S.C. 6672) and 34 CFR 75.226. Competitive Preference Priority 1 is from the Effective Educator Development (EED) notice of final priorities published in the Federal Register on July 9, 2021 (86 FR 36217) (EED NFP). Competitive Preference Priorities 2 and 3 are from the Secretary's notice of final supplemental priorities and definitions published in the Federal Register on December 10, 2021 (86 FR 70612) (Supplemental Priorities).

Absolute Priorities: For FY 2025 and any subsequent year in which we make awards from the list of unfunded applications from this competition, these priorities are absolute priorities. Under 34 CFR 75.105(c)(3), we consider only applications that meet one of these absolute priorities.

Under this competition, each of the two absolute priorities constitutes its own funding category. Applicants may address only one absolute priority and must clearly indicate the specific absolute priority their project addresses.

These priorities are:

Absolute Priority 1—Supporting Effective Teachers.

This priority is for projects that will implement activities that are supported by moderate evidence. Applicants under this priority may propose one or more of the following activities:

(1) Providing teachers from nontraditional preparation and certification routes or pathways to serve in traditionally underserved local educational agencies (LEAs);

(2) Providing evidence-based professional development activities that address literacy, numeracy, remedial, or other needs of LEAs and the students the agencies serve;

or

(3) Providing teachers with evidence-based professional enhancement activities, which may include activities that lead to an advanced credential.

Absolute Priority 2—Supporting Effective Principals or Other School Leaders.

This priority is for projects that will implement activities that are supported by promising evidence. Applicants under this priority may propose one or more of the following activities:

(1) Providing principals or other school leaders from nontraditional preparation and certification routes or pathways to serve in traditionally underserved LEAs;

(2) Providing principals or other school leaders with evidence-based professional development activities that address literacy, numeracy, remedial, or other needs of LEAs and the students the agencies serve; or

(3) Providing principals or other school leaders with evidence-based professional enhancement activities, which may include activities that lead to an advanced credential.

Note on Meeting Evidence Requirements: An applicant must identify at least one, but no more than two, citations for the purposes of meeting the evidence requirements under either Absolute Priority 1 or Absolute Priority 2. An applicant should clearly identify these citations in the Evidence form. The Department will not review a citation that an applicant fails to clearly identify for review. Studies included for review may have been conducted by the applicant or by a third party.

In addition to including up to two citations, an applicant must provide a description of (1) the positive outcome(s) and practice(s) the applicant intends to replicate under its SEED grant and (2) the relevance of the outcome(s) and practice(s) to the SEED program. For those applicants seeking to address Absolute Priority 1, to meet the definition of moderate evidence the applicant must describe how the population it proposes to serve overlaps with the population or settings in the citations.

An applicant must ensure that all evidence is available to the Department from publicly available sources and provide links or other guidance indicating where it is available. If the Department determines that an applicant has provided insufficient information, the applicant will not have an opportunity to provide additional information at a later time. However, if the What Works Clearinghouse (WWC) ²⁷ determines that a study does not provide enough information on key aspects of the study design, such as sample attrition or equivalence of intervention and comparison groups, the WWC will submit a query to the study author(s) to gather information for use in determining a study rating. Authors are asked to respond to queries within 10 business days. Should the author query remain incomplete within 14 days of the initial contact to the study author(s), the study will be deemed ineligible under the grant competition. After the grant competition closes, the WWC will continue to include responses to author queries and will make updates to study reviews as necessary, but no additional information will be taken into account after the competition closes and the initial timeline established for response to an author query passes.

²⁷ ies.ed.gov/ncee/wwc/.

Competitive Preference Priorities: For FY 2025 and any subsequent year in which we make awards from the list of unfunded applications from this competition, these priorities are competitive preference priorities. Under 34 CFR 75.105(c)(2)(i), we award up to an additional 13 points to an application, depending on how well the application addresses the competitive preference priorities.

If an applicant chooses to address one or more competitive preference priorities, the project narrative section of its application must identify its response to the competitive preference priorities it chooses to address.

These priorities are:

Competitive Preference Priority 1—Increasing Educator Diversity (up to 5 points).

Under this priority, applicants must develop projects that are designed to improve the recruitment, outreach, preparation, support, development, and retention of a diverse educator workforce through adopting, implementing, or expanding high-quality, comprehensive teacher preparation programs that have a track record of attracting, supporting, graduating, and placing underrepresented teacher candidates, and that include one year of high-quality clinical experiences (prior to becoming the teacher of record) in high-need schools.

Competitive Preference Priority 2—Promoting Equity in Student Access to Educational Resources and Opportunities; Meeting Student Social, Emotional, and Academic Needs (up to 3 points).

Under this priority, an applicant must develop projects that address one or more of the following—

(a) Projects designed to promote educational equity and adequacy in resources and opportunity for underserved students—

(1) In one or more of the following educational settings:

(i) Early learning programs.

(ii) Elementary school.

(iii) Middle school.

(iv) High school.

(v) Career and technical education programs.

(vi) Out-of-school-time settings.

(vii) Alternative schools and programs.

(viii) Juvenile justice system or correctional facilities;

(2) That examines the sources of inequity and inadequacy and implements responses that include pedagogical practices in educator preparation programs and professional development programs that are inclusive with regard to race, ethnicity, culture, language, and disability status so that educators are better prepared to create inclusive, supportive, equitable, unbiased, and identity-safe learning environments for their students.

(b) Projects that are designed to improve students' social, emotional, academic, and career development, with a focus on underserved students, through developing and supporting educator and school capacity to support social and emotional learning and development that—

(1) Fosters skills and behaviors that enable academic progress;

(2) Identifies and addresses conditions in the learning environment, that may negatively impact social and emotional well-being for underserved students, including conditions that affect physical safety; and

(3) Is trauma-informed, such as addressing exposure to community-based violence and trauma specific to military- or veteran-connected students.

Competitive Priority 3—Supporting a Diverse Educator Workforce and Professional Growth to Strengthen Student Learning (up to 5 points).

Projects that are designed to increase the proportion of well-prepared, diverse, and effective educators serving students, with a focus on underserved students, through building or expanding high-poverty school districts' capacity to hire, support, and retain an effective and diverse educator workforce, through adopting or expanding comprehensive, strategic career and compensation systems that provide competitive compensation and include opportunities for educators to serve as mentors and instructional coaches, or to take on additional leadership roles and responsibilities for which educators are compensated.

Invitational Priorities: For FY 2025 and any subsequent year in which we make awards from the list of unfunded applications from this competition, these priorities are invitational priorities. Under 34 CFR 75.105(c)(1) we do not give an application that meets these invitational priorities a competitive or absolute preference over other applications.

These priorities are:

Invitational Priority 1—Partnership Grants for the Establishment of Registered Apprenticeship Programs for K-12 Teachers.

A project implementing a new or enhanced registered apprenticeship program for K-12 teachers that—

(a) Is developed with the partner LEA (Local educational agency) to address the needs of its students and teachers;

(b) Uses data-driven strategies and evidence-based approaches to increase recruitment, successful completion, and retention of teachers supported by the project;

(c) Provides standards for participants to enter into and complete the program;

(d) Is aligned to evidence-based practices for effective educator preparation, and includes practice-based learning opportunities linked to coursework that address State requirements for full certification, professional standards for teacher preparation, culturally and linguistically sustaining pedagogies, and the established knowledge base for education, including the science of learning and development; ²⁸

²⁸ See, for example, for registered apprenticeship programs for teachers, the National Guidelines for Apprenticeship Standards for K-12 Teacher Apprenticeships, drafted by the Pathways Alliance and approved by the U.S. Department of Labor https://www.thepathwaysalliance.org/reports.

(e) Has little to no financial burden for program participants, or provides for loan forgiveness;

(f) Requires completion of a bachelor's degree either before entering or as a result of the certification program;

(g) Results in the satisfaction of all requirements for full State teacher licensure or certification, excluding emergency, temporary, provisional, or other sub-standard licensure or certification; and

(h) Provides increasing levels of responsibility for the apprentice during at least one year of paid on-the-job learning/clinical experience, during which a mentor teacher is the teacher of record.

Invitational Priority 2—Supporting Early Elementary Educators and/or School Leaders.

Projects and initiatives that include early elementary teacher and/or school leader preparation programs, professional development and training, professional learning communities, coaching, peer learning collaboratives, and resources to support K-3 early elementary educators and/or school leaders in instructional practices that meet the wide range of developmental and linguistic strengths, needs, and experiences of students at kindergarten entry through the early grades with a focus on one or more of the following:

(a) Instruction informed by the science of learning and development in kindergarten through 3rd grade.

(b) Instruction that is inclusive and developmentally, culturally, and linguistically responsive.

(c) Intentional and effective transitions into kindergarten and through the early grades.

(d) Partnerships with parents, families, and caregivers and successful family engagement, into kindergarten and through 3rd grade.

(e) Intentional collaboration to support inclusive, linguistically responsive, and developmentally informed instructional alignment in K-3, including continuity of services, supports, assessments, relationships, and data sharing across K-3.

Definitions: The definition of “evidence-based” is from section 2242 of the ESEA (20 U.S.C. 6672) and section 8101 of the ESEA (20 U.S.C. 7801). The definitions of “English learner,” “institution of higher education,” which incorporates by reference section 101(a) of the Higher Education Opportunity Act (20 U.S.C. 7801(a)), “local educational agency,” “professional development,” “school leader,” and “State educational agency” are from section 8101 of the ESEA (20 U.S.C. 7801). The definitions of “continuous improvement,” “evaluation,” “evidence-building,” “experimental study,” “logic model,” “moderate evidence,” “project component,” “promising evidence,” “quasi-experimental design study,” “relevant outcome,” and “What Works Clearinghouse Handbooks” are from 34 CFR 77.1. The definitions of “children or students with disabilities,” “disconnected youth,” “early learning,” “educator,” “military- or veteran-connected student,” and “underserved student” are from the Supplemental Priorities. The definition of “national nonprofit entity” is from the notice of final definition published in the Federal Register on April 4, 2022 (87 FR 19388) (Final Definition).

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Continuous improvement means using plans for collecting and analyzing data about a project component's implementation and outcomes (including the pace and extent to which project outcomes are being met) to inform necessary changes throughout the project. These plans may include strategies to gather ongoing feedback from participants and stakeholders on the implementation of the project component.

Disconnected youth means an individual, between the ages 14 and 24, who may be from a low-income background, experiences homelessness, is in foster care, is involved in the justice system, or is not working or not enrolled in (or at risk of dropping out of) an educational institution.

Early learning means any—

(1) State-licensed or State-regulated program or provider, regardless of setting or funding source, that provides early care and education for children from birth to kindergarten entry, including, but not limited to, any program operated by a child care center or in a family child care home;

(2) Program funded by the Federal Government or State or local educational agencies (including any IDEA-funded program);

(3) Early Head Start and Head Start program;

(4) Non-relative child care provider who is not otherwise regulated by the State and who regularly cares for two or more unrelated children for a fee in a provider setting; and

(5) Other program that may deliver early learning and development services in a child's home, such as the Maternal, Infant, and Early Childhood Home Visiting Program; Early Head Start; and Part C of IDEA.

Educator means, for the purposes of Competitive Preference Priorities 2 and 3, an individual who is an early learning educator, teacher, principal or other school leader, specialized instructional support personnel (e.g., school psychologist, counselor, school social worker, early intervention service personnel), paraprofessional, or faculty.

English learner means, when used with respect to an individual, an individual—

(1) Who is aged 3 through 21;

(2) Who is enrolled or preparing to enroll in an elementary school or secondary school;

(3)(i) Who was not born in the United States or whose native language is a language other than English;

(ii)(A) Who is a Native American or Alaska Native, or a native resident of the outlying areas; and

(B) Who comes from an environment where a language other than English has had a significant impact on the individual's level of English language proficiency; or

(iii) Who is migratory, whose native language is a language other than English, and who comes from an environment where a language other than English is dominant; and

(4) Whose difficulties in speaking, reading, writing, or understanding the English language may be sufficient to deny the individual—

(i) The ability to meet the challenging

State academic standards;

(ii) The ability to successfully achieve in classrooms where the language of instruction is English; or

(iii) The opportunity to participate fully in society.

Evaluation means an assessment using systematic data collection and analysis of one or more programs, policies, practices, and organizations intended to assess their implementation, outcomes, effectiveness, or efficiency.

Evidence-based, when used with respect to a State, LEA, or school activity, means an activity, strategy, or intervention that demonstrates a statistically significant effect on improving student outcomes or other relevant outcomes based on—

(1) Strong evidence from at least one well-designed and well-implemented experimental study;

(2) Moderate evidence from at least one well designed and well-implemented quasi-experimental study; or

(3) Promising evidence from at least one well-designed and well-implemented correlational study with statistical controls for selection bias.

Evidence-building means a systematic plan for identifying and answering questions relevant to programs and policies through performance measurement, exploratory studies, or program evaluation.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(1) A randomized controlled trial employs random assignment of, for example, students, teachers, classrooms, or schools to receive the project component being evaluated (the treatment group) or not to receive the project component (the control group).

(2) A regression discontinuity design study assigns the project component being evaluated using a measured variable (e.g., assigning students reading below a cutoff score to tutoring or developmental education classes) and controls for that variable in the analysis of outcomes.

(3) A single-case design study uses observations of a single case (e.g., a student eligible for a behavioral intervention) over time in the absence and presence of a controlled treatment manipulation to determine whether the outcome is systematically related to the treatment.

Institution of higher education (IHE) means an educational institution in any State that—

(1) Admits as regular students only persons having a certificate of graduation from a school providing secondary education, or the recognized equivalent of such a certificate, or persons who meet the requirements of section 484(d) of the Higher Education Act of 1965, as amended (HEA);

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association, or if not so accredited, is an institution that has been granted pre-accreditation status by such an agency or association that has been recognized by the Secretary for the granting of pre-accreditation status, and the Secretary has determined that there is satisfactory assurance that the institution will meet the accreditation standards of such an agency or association within a reasonable time.

Local educational agency (LEA) means:

(1) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(2) Administrative Control and Direction. The term includes any other public institution or agency having administrative control and direction of a public elementary school or secondary school.

(3) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA other than the Bureau of Indian Education.

(4) Educational Service Agencies. The term includes educational service agencies and consortia of those agencies.

(5) State Educational Agency. The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Moderate evidence means evidence of effectiveness of a key project component in improving a relevant outcome for a sample that overlaps with the populations or settings proposed to receive that component, based on a relevant finding from one of the following:

(i) A practice guide prepared by the WWC using version 2.1, 3.0, 4.0, 4.1, or 5.0 of the WWC Handbooks reporting “strong evidence” or “moderate evidence” for the corresponding practice guide recommendation;

(ii) An intervention report prepared by the WWC using version 2.1, 3.0, 4.0, 4.1, or 5.0 of the WWC Handbooks reporting “Tier 1 strong evidence” of effectiveness or “Tier 2 moderate evidence” of effectiveness or a “positive effect” on a relevant outcome based on a sample including at least 20 students or other individuals from more than one site (such as a State, county, city, LEA, school, or postsecondary campus), or a “potentially positive effect” on a relevant outcome based on a sample including at least 350 students or other individuals from more than one site (such as a State, county, city, LEA, school, or postsecondary campus), with no reporting of a “negative effect” or “potentially negative effect” on a relevant outcome; or

(iii) A single experimental study or quasi-experimental design study reviewed and reported by the WWC most recently using version 2.1, 3.0, 4.0, 4.1, or 5.0 of the WWC Handbooks, or otherwise assessed by the Department using version 5.0 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, 4.1, or 5.0 of the WWC Handbooks; and

(D) Is based on a sample from more than one site (such as a State, county, city, LEA, school, or postsecondary campus) and includes at least 350 students or other individuals across sites. Multiple studies of the same project component that each meet the requirements in paragraphs (iii)(A) through (C) of this definition may together satisfy the requirement in this paragraph (iii)(D).

National nonprofit entity means an entity that—

(1) Meets the definition of “nonprofit” under 34 CFR 77.1(c); and

(2) Is of national scope, which requires that the entity—

(i) Provides services in three or more States; and

(ii) Demonstrates a proven record of serving or benefitting teachers, principals, or other school leaders across these States.

Professional development means activities that—

(1) Are an integral part of school and LEA strategies for providing educators (including teachers, principals, other school leaders, specialized instructional support personnel, paraprofessionals, and, as applicable, early childhood educators) with the knowledge and skills necessary to enable students to succeed in a well-rounded education and to meet the challenging State academic standards; and

(2) Are sustained (not stand-alone, 1-day, or short term workshops), intensive, collaborative, job-embedded, data-driven, and classroom-focused, and may include activities that—

(i) Improve and increase teachers'—

(A) Knowledge of the academic subjects the teachers teach;

(B) Understanding of how students learn; and

(C) Ability to analyze student work and achievement from multiple sources, including how to adjust instructional strategies, assessments, and materials based on such analysis;

(ii) Are an integral part of broad schoolwide and districtwide educational improvement plans;

(iii) Allow personalized plans for each educator to address the educator's specific needs identified in observation or other feedback;

(iv) Improve classroom management skills;

(v) Support the recruitment, hiring, and training of effective teachers, including teachers who became certified through State and local alternative routes to certification;

(vi) Advance teacher understanding of—

(A) Effective instructional strategies that are evidence-based; and

(B) Strategies for improving student academic achievement or substantially increasing the knowledge and teaching skills of teachers;

(vii) Are aligned with, and directly related to, academic goals of the school or LEA;

(viii) Are developed with extensive participation of teachers, principals, other school leaders, parents, representatives of Indian Tribes (as applicable), and administrators of schools to be served under the ESEA;

(ix) Are designed to give teachers of English Learners, and other teachers and instructional staff, the knowledge and skills to provide instruction and appropriate language and academic support services to those children, including the appropriate use of curricula and assessments;

(x) To the extent appropriate, provide training for teachers, principals, and other school leaders in the use of technology (including education about the harms of copyright piracy), so that technology and technology applications are effectively used in the classroom to improve teaching and learning in the curricula and academic subjects in which the teachers teach;

(xi) As a whole, are regularly evaluated for their impact on increased teacher effectiveness and improved student academic achievement, with the findings of the evaluations used to improve the quality of professional development;

(xii) Are designed to give teachers of children with disabilities or children with developmental delays, and other teachers and instructional staff, the knowledge and skills to provide instruction and academic support services, to those children, including positive behavioral interventions and supports, multi-tier system of supports, and use of accommodations;

(xiii) Include instruction in the use of data and assessments to inform and instruct classroom practice;

(xiv) Include instruction in ways that teachers, principals, other school leaders, specialized instructional support personnel, and school administrators may work more effectively with parents and families;

(xv) Involve the forming of partnerships with IHEs, including, as applicable, Tribal Colleges and Universities as defined in section 316(b) of the HEA (20 U.S.C. 1059c(b)), to establish school-based teacher, principal, and other school leader training programs that provide prospective teachers, novice teachers, principals, and other school leaders with an opportunity to work under the guidance of experienced teachers, principals, other school leaders, and faculty of such institutions;

(xvi) Create programs to enable paraprofessionals (assisting teachers employed by an LEA receiving assistance under part A of title I of the ESEA) to obtain the education necessary for those paraprofessionals to become certified and licensed teachers;

(xvii) Provide follow-up training to teachers who have participated in activities described in paragraph (2) of this definition that are designed to ensure that the knowledge and skills learned by the teachers are implemented in the classroom; and

(xviii) Where practicable, provide jointly for school staff and other early childhood education program providers, to address the transition to elementary school, including issues related to school readiness.

Project component means an activity, strategy, intervention, process, product, practice, or policy included in a project. Evidence may pertain to an individual project component or to a combination of project components (e.g., training teachers on instructional practices for English learners and follow-on coaching for these teachers).

Promising evidence means evidence of the effectiveness of a key project component in improving a relevant outcome, based on a relevant finding from one of the following:

(i) A practice guide prepared by the WWC reporting “strong evidence”, “moderate evidence”, or “promising evidence” for the corresponding practice guide recommendation;

(ii) An intervention report prepared by the WWC reporting “Tier 1 strong evidence” of effectiveness, or “Tier 2 moderate evidence” of effectiveness, or “Tier 3 promising evidence” of effectiveness, or a “positive effect,” or “potentially positive effect” on a relevant outcome, with no reporting of a “negative effect” or “potentially negative effect” on a relevant outcome; or

(iii) A single study assessed by the Department, as appropriate, that—

(A) Is an experimental study, a quasi-experimental design study, or a well-designed and well-implemented correlational study with statistical controls for selection bias (such as a study using regression methods to account for differences between a treatment group and a comparison group);

(B) Includes at least one statistically significant and positive (i.e., favorable) effect on a relevant outcome; and

(C) Includes no overriding statistically significant and negative effects on relevant outcomes reported in the study or in a corresponding WWC intervention report. An intervention report prepared by the WWC reporting “Tier 1 strong evidence” of effectiveness, or “Tier 2 moderate evidence” of effectiveness, or “Tier 3 promising evidence” of effectiveness, or a “positive effect,” or “potentially positive effect” on a relevant outcome, with no reporting of a “negative effect” or “potentially negative effect” on a relevant outcome; and

(iii) Includes no overriding statistically significant and negative effects on relevant outcomes reported in the study or in a corresponding WWC intervention report.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

School leader means a principal, assistant principal, or other individual who is—

(1) An employee or officer of an elementary school or secondary school, LEA, or other entity operating an elementary school or secondary school; and

(2) Responsible for the daily instructional leadership and managerial operations in the elementary school or secondary school building.

State educational agency (SEA) means the agency primarily responsible for the State supervision of public elementary schools and secondary schools.

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(p) A student enrolling in or seeking to enroll in postsecondary education for the first time at the age of 20 or older.

(q) A student who is working full-time while enrolled in postsecondary education.

(r) A student who is enrolled in or is seeking to enroll in postsecondary education who is eligible for a Pell Grant.

(s) An adult student in need of improving their basic skills or an adult student with limited English proficiency.

(t) A student performing significantly below grade level.

(u) A military- or veteran-connected student.

For the purposes of this definition only, “English learner” means an individual who is an English learner as defined in section 8101(20) of the ESEA, or an individual who is an English language learner as defined in section 203(7) of the Workforce Innovation and Opportunity Act.

What Works Clearinghouse (WWC) Handbooks (WWC Handbooks) means the standards and procedures set forth in the WWC Procedures and Standards Handbook, Version 5.0, or in the WWC Standards Handbook, Version 4.0 or 4.1, or in the WWC Procedures Handbook, Version 4.0 or 4.1, the WWC Procedures and Standards Handbook, Version 3.0 or Version 2.1 (all incorporated by reference; see § 77.2). WWC practice guides and intervention reports include findings from systematic reviews of evidence as described in the WWC Handbooks documentation.

Program Authority: Section 2242 of the ESEA (20 U.S.C. 6672).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) EED NFP. (e) The Supplemental Priorities. (f) The Final Definition.

Note: The regulations in 34 CFR part 86 apply to IHEs only.

Note: As of October 1, 2024, grant applicants must follow the OMB Guidance for Federal Financial Assistance provisions stated in the OMB Guidance for Federal Financial Assistance (89 FR 30046, April 22, 2024) when preparing an application. For more information about these regulations please visit: https://www.cfo.gov/resources-coffa/uniform-guidance/.

II. Award Information

Type of Award: Discretionary grants.

Estimated Available Funds: The Administration requested $90,000,000 for SEED for FY 2025, of which we intend to use an estimated $75,000,000 for this competition. The actual level of funding, if any, depends on final congressional action. However, we are inviting applications to allow enough time to complete the grant process if Congress appropriates funds for this program.

Contingent upon the availability of funds and the quality of applications, we may make additional awards in subsequent years from the list of unfunded applications from this competition.

Estimated Range of Awards: $1,000,000-$6,000,000 per project year.

Estimated Average Size of Awards: $3,500,000 per project year.

Estimated Number of Awards: 16-20.

Note: The Department is not bound by any estimates in this notice.

Project Period: Up to 36 months.

III. Eligibility Information

1. Eligible Applicants:

(a) An IHE that provides course materials or resources that are evidence-based in increasing academic achievement, graduation rates, or rates of postsecondary education matriculation;

(b) A national nonprofit entity with a demonstrated record of raising student academic achievement, graduation rates, and rates of higher education attendance, matriculation, or completion, or of effectiveness in providing preparation and professional development activities and programs for teachers, principals, or other school leaders;

(c) The Bureau of Indian Education; or

(d) A partnership consisting of—

(i) One or more entities described in paragraph (a) or (b); and

(ii) A for-profit entity.

If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: Under section 2242 of the ESEA, each grant recipient must provide, from non-Federal sources, at least 25 percent of the total cost for each year of the project activities. These funds may be provided in cash or through in-kind contributions. Grantees must include a budget showing their matching contributions on an annual basis relative to the annual budget amount of SEED grant funds and must provide evidence of their matching contributions for the first year of the grant in their grant applications.

Note: The combination of Federal and non-Federal funds should equal the total cost of the project. Therefore, grantees are generally required to support no less than 25 percent of the total cost of the project with non- Federal funds. Grantees are strongly encouraged to take this requirement into account when requesting Federal funds and limit their request appropriately and should verify that their budgets reflect the costs allocations appropriately. (Cost share formula: total program cost (the amount of the Federal grant + the amount of the non-Federal match) × .75 = Federal award amount).

b. Supplement-Not-Supplant: This program involves supplement-not-supplant funding requirements. Under section 2301 of the ESEA (20 U.S.C. 6691), funds made available under title II of the ESEA must be used to supplement, and not supplant, non-Federal funds that would otherwise be used for activities authorized under this title.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: (a) Under 34 CFR 75.708(b) and (c) a grantee under this competition may award subgrants—to directly carry out project activities described in its application—to the following types of entities: LEAs, IHEs, State and local governments, and other public or private entities suitable to carry out the activities proposed in the application.

(b) The grantee may award subgrants to entities it has identified in an approved application or under procedures established by the grantee.

4. Certification: Pursuant to section 2242 of the ESEA (20 U.S.C. 6672), applicants must include a certification that the services provided by an eligible entity under the grant to an LEA or to a school served by the LEA will not result in direct fees for participating students or parents.

5. Renewal: Under section 2242(b)(2) of the ESEA (20 U.S.C. 6672), the Secretary may renew a grant awarded under this section for one additional two-year period.

Note: During the course of the third year of the project period for grants awarded under this competition, we will provide details on the potential renewal process. In making decisions on whether to award a two-year renewal award, we will review performance data submitted in regularly required reporting, as well as potentially request narrative information to be assessed using selection criteria from 34 CFR 75.210.

IV. Application and Submission Information

1. Application Submission Instructions: Applicants are required to follow the Common Instructions for Applicants to Department of Education Discretionary Grant Programs, published in the Federal Register on December 23, 2024 (89 FR 104528) and available at www.federalregister.gov/documents/2024/12/23/2024-30488/common-instructions-for-applicants-to-department-of-education-discretionary-grant-programs, which contain requirements and information on how to submit an application.

2. Submission of Proprietary Information: Given the types of projects that may be proposed in applications for the SEED program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to 40 pages and (2) use the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to develop a more efficient process for reviewing grant applications if it has a better understanding of the number of entities that intend to apply for funding under this competition. Therefore, we strongly encourage each potential applicant to notify us of their intent to submit an application for funding by sending an email to SEED@ed.gov with FY 2025 SEED Intent to Apply in the subject line, by February 18, 2025. Applicants that do not send a notice of intent to apply may still apply for funding.

V. Application Review Information

1. Selection Criteria: The selection criteria for this competition are from 34 CFR 75.210. An applicant may earn up to a total of 100 points based on the selection criteria. The maximum score for each criterion is indicated in parentheses. Each criterion also includes the factors that the reviewers will consider in determining how well an application meets the criterion. The criteria are as follows:

(a) Quality of the Project Design (35 points). The Secretary considers the quality of the design of the proposed project. In determining the quality of the design of the proposed project, the Secretary considers the following factors:

(1) The extent to which the training or professional development services to be provided by the proposed project are of sufficient quality, intensity, and duration to lead to improvements in practice among the recipients of those services. (9 points)

(2) The extent to which the proposed project is designed to build capacity and yield results that will extend beyond the period of Federal financial assistance. (8 points)

(3) The quality of the logic model or other conceptual framework underlying the proposed project, including how inputs are related to outcomes. (8 points)

(4) The extent to which the design of the proposed project demonstrates meaningful community engagement and input to ensure that the project is appropriate to successfully address the needs of the target population or other identified needs and will be used to inform continuous improvement strategies. (8 points)

(b) Significance (25 points).

The Secretary considers the significance of the proposed project. In determining the significance of the proposed project, the Secretary considers the following factors:

(1) The importance or magnitude of the results or outcomes likely to be attained by the proposed project, especially contributions toward improving teaching practice and student learning and achievement. (7 points)

(2) The extent to which the costs are reasonable in relation to the number of persons to be served, the depth and intensity of services, and the anticipated results and benefits. (6 points)

(3) The potential for the purposes, activities, or benefits of the proposed project to be institutionalized into the ongoing practices and programs of the applicant, agency, or organization and continue after Federal funding ends. (6 points)

(4) The extent to which the resources, tools, and implementation lessons of the proposed project will be disseminated in ways to the target population and local community that will enable them and others (including practitioners, researchers, education leaders, and partners) to implement similar strategies. (6 points)

(c) Quality of the Management Plan (20 points). The Secretary considers the quality of the management plan for the proposed project. In determining the quality of the management plan for the proposed project, the Secretary considers the following factors:

(1) The extent to which the goals, objectives, and outcomes to be achieved by the proposed project are clearly specified, measurable, and ambitious yet achievable within the project period, and aligned with the purposes of the grant program. (10 points)

(2) The feasibility of the management plan to achieve project objectives and goals on time and within budget, including clearly defined responsibilities, timelines, and milestones for accomplishing project tasks. (10 points)

(d) Quality of the Project Evaluation or Other Evidence-Building. (20 points).

The Secretary considers the quality of the evaluation or other evidence-building of the proposed project. In determining the quality of the evaluation or other evidence-building, the Secretary considers the following factors:

(1) The extent to which the methods of evaluation will, if well implemented, produce evidence about the effectiveness of the project on relevant outcomes that would meet the What Works Clearinghouse standards without reservations, as described in the What Works Clearinghouse Handbooks. (5 points)

(2) The extent to which performance feedback and formative data are integral to the design of the proposed project and will be used to inform continuous improvement. (5 points)

(3) The extent to which the methods of evaluation or other evidence-building include the use of objective performance measures that are clearly related to the intended outcomes of the project and will produce quality data that are quantitative and qualitative. (5 points)

(4) The extent to which the design for implementing and evaluating the proposed project will result in information to guide possible replication of project activities or strategies, including valid and reliable information about the effectiveness of the approach or strategies employed by the project. (5 points)

Note: Applicants may wish to review technical assistance resources on Evaluation relevant to the SEED program available at https://www.ed.gov/grants-and-programs/teacher-prep/supporting-effective-educator-development-grant-program.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Under section 2242 of the ESEA, we consider the following additional factors in selecting an application for an award:

(a) The Secretary must ensure that, to the extent practicable, grants are distributed among eligible entities that will serve geographically diverse areas, including urban, suburban, and rural areas.

(b) The Department must not award more than one grant under this program to an eligible entity during a grant competition. If an entity submits multiple applications for this competition, only the highest rated application will be considered for an award.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purpose of Department reporting under 34 CFR 75.110, we have established the following performance measures for the SEED program: (a) the percentage of teacher, principal, or other school leader participants who serve concentrations of high-need students; (b) the percentage of teacher and principal participants who serve concentrations of high-need students and are highly effective; (c) the percentage of teacher and principal participants who serve concentrations of high-need students, are highly effective, and serve for at least two years; (d) the cost per such participant; and (e) the number of grantees with evaluations that meet the WWC standards without reservations. Grantees will report annually on each measure.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at: www.federalregister.gov. Specifically, through the advanced search feature at this site, you can limit your search to documents published by the Department.

Adam Schott,
Deputy Assistant Secretary for Policy and Programs, Delegated the Authority to Perform theFunctions and Duties of the Assistant Secretary, Office of Elementary and Secondary Education.

[FR Doc. 2025-01275 Filed 1-16-25; 8:45 am]

BILLING CODE 4000-01-P